DEPARTMENT OF ENERGY

[FE Docket No. 00-61-NG, 00-62-NG, 00-67-NG, 00-60-NG, 95-104-NG, 97-48-NG, 97-36-NG, 97-03-NG, 96-52-NG, 97-37-NG]

Office of Fossil Energy; Orders Granting and Transferring Authority to Import and Export Natural Gas; Aquila Energy Marketing Corporation et al.

AGENCY: Office of Fossil Energy, DOE.

ACTION: Notice of orders.

SUMMARY: The Office of Fossil Energy (FE) of the Department of Energy gives notice that during September 2000, it issued Orders granting and transferring authority to import and export natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The docket room is open between the hours of 8:00 a.m. and 4:30 p.m., Monday through Friday, except Federal holidays.

Issued in Washington, DC, on October 19, 2000.
John W. Glynn,
Manager, Natural Gas Regulation, Office of Natural Gas & Petroleum, Import & Export Activities, Office of Fossil Energy.

Appendix—Orders Granting and Transferring Import/Export Authorizations

Order No. | Date issued | Importer/exporter FE Docket No. | Import volume | Export volume | Comments
1623 | 9/01/00 | Aquila Energy Marketing Corporation, 00-61-NG | 200 Bcf |  | Import from Canada beginning on September 1, 2000, and extending through August 31, 2002.
1624 | 9/13/00 | BP Canada Energy Marketing Corp., (Formerly known as Amoco Canada Marketing Corp.), 00-62-NG | 500 Bcf |  | Import and export a combined total from and to Canada, beginning on September 24, 2000, and extending through September 23, 2002.
1625 | 9/26/00 | CoEnergy Trading Company, 00-67-NG | 150 Bcf |  | Import from Canada, beginning on September 30, 2000, and extending through September 29, 2002.
1626 | 9/29/00 | Domcan Boundary Corp., 00-60-NG | 25 Bcf |  | Import from Canada, beginning on October 1, 2000, and extending through September 30, 2002.
1128-A | 9/29/00 | Westcoast Gas services Delaware (America) Inc. (Successor to Coastal Gas Marketing Company and Engage Energy US, L.P.), 95-104-NG |  |  | Transfer of long-term import authority.
1332-A | 9/29/00 | Westcoast Gas services Delaware (America) Inc. (Successor to Engage Energy US, L.P.), 97-48-NG |  |  | Do.
1275-A | 9/29/00 | Westcoast Gas services Delaware (America) Inc. (Successor to Coastal Gas Marketing Company and Engage Energy US, L.P.), 97-36-NG |  |  | Do.
1253-A | 9/29/00 | Westcoast Gas services Delaware (America) Inc. (Successor to Coastal Gas Marketing Company and Engage Energy US, L.P.), 97-03-NG |  |  | Do.
1202-A | 9/29/00 | Westcoast Gas services Delaware (America) Inc. (Successor to Coastal Gas Marketing Company and Engage Energy US, L.P.), 96-52-NG |  |  | Do.
1282-A | 9/29/00 | Westcoast Gas services Delaware (America) Inc. (Successor to Coastal Gas Marketing Company and Engage Energy US, L.P.), 97-37-NG |  |  | Do.

[FR Doc. 00-27391 Filed 10-24-00; 8:45 am]

BILLING CODE 6450-01-P